DEPARTMENT OF ENERGY

Federal Energy Regulatory Commission

Combined Notice of Filings #1

Take notice that the Commission received the following electric rate filings:

Docket Numbers: ER25-1875-000.

Applicants: California Independent System Operator Corporation.

Description: § 205(d) Rate Filing: 2025-04-03 2025 Spring Tariff Clarification Filing to be effective 6/3/2025.

Filed Date: 4/3/25.

Accession Number: 20250403-5169.

Comment Date: 5 p.m. ET 4/24/25.

Docket Numbers: ER25-1876-000.

Applicants: Southwest Power Pool, Inc.

Description: Tariff Amendment: 3906 Wedington Solar GIA Cancellation to be effective 6/25/2025.

Filed Date: 4/4/25.

Accession Number: 20250404-5020.

Comment Date: 5 p.m. ET 4/25/25.

Docket Numbers: ER25-1878-000.

Applicants: Omaha Public Power District, Southwest Power Pool, Inc.

Description: § 205(d) Rate Filing: Omaha Public Power District submits tariff filing per 35.13(a)(2)(iii: Omaha Public Power District Formula Rate Revisions to be effective 1/1/2026.

Filed Date: 4/4/25.

Accession Number: 20250404-5087.

Comment Date: 5 p.m. ET 4/25/25.

Docket Numbers: ER25-1879-000.

Applicants: PJM Interconnection, L.L.C.

Description: § 205(d) Rate Filing: Original GIA Service Agreement No. 7612; Project Identifier No. AF2-107 to be effective 3/5/2025.

Filed Date: 4/4/25.

Accession Number: 20250404-5100.

Comment Date: 5 p.m. ET 4/25/25.

Docket Numbers: ER25-1880-000.

Applicants: PJM Interconnection, L.L.C.

Description: § 205(d) Rate Filing: Original GIA Service Agreement No. 7616; Project Identifier No. AG1-368 to be effective 3/5/2025.

Filed Date: 4/4/25.

Accession Number: 20250404-5104.

Comment Date: 5 p.m. ET 4/25/25.

Docket Numbers: ER25-1881-000.

Applicants: Southern California Edison Company.

Description: Tariff Amendment: Terminate GIA & DSA, PPA Grand Johanna (WDT1406/SA Nos. 925-926) to be effective 4/7/2025.

Filed Date: 4/4/25.

Accession Number: 20250404-5106.

Comment Date: 5 p.m. ET 4/25/25.

Docket Numbers: ER25-1882-000.

Applicants: PJM Interconnection, L.L.C.

Description: § 205(d) Rate Filing: Original GIA, Service Agreement No. 7633; Project Identifier No. AG1-067 to be effective 6/7/2025.

Filed Date: 4/4/25.

Accession Number: 20250404-5144.

Comment Date: 5 p.m. ET 4/25/25.

Docket Numbers: ER25-1883-000.

Applicants: PJM Interconnection, L.L.C.

Description: § 205(d) Rate Filing: Original CSA Service Agreement No. 7622; Project Identifier No. AG1-368 to be effective 3/14/2025.

Filed Date: 4/4/25.

Accession Number: 20250404-5149.

Comment Date: 5 p.m. ET 4/25/25.

Docket Numbers: ER25-1884-000.

Applicants: Louisville Gas and Electric Company.

Description: § 205(d) Rate Filing: KYMEA Engineering and Procurement Agreement S.A. No. 27 to be effective 4/3/2025.

Filed Date: 4/4/25.

Accession Number: 20250404-5156.

Comment Date: 5 p.m. ET 4/25/25.

Docket Numbers: ER25-1885-000.

Applicants: PJM Interconnection, L.L.C.

Description: § 205(d) Rate Filing: Original GIA SA No. 7617; AC2-176/AG1-017, Cancellation ISA No. 5466; AC2-176 to be effective 3/5/2025.

Filed Date: 4/4/25.

Accession Number: 20250404-5167.

Comment Date: 5 p.m. ET 4/25/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 4, 2025.
Carlos D. Clay,
Deputy Secretary.

[FR Doc. 2025-06155 Filed 4-9-25; 8:45 am]

BILLING CODE 6717-01-P